SMALL BUSINESS ADMINISTRATION

Data Collection Available for Public Comments

ACTION: 60-Day notice and request for comments.

SUMMARY: In accordance with the Paperwork Reduction Act of 1995 (PRA), the Small Business Administration (SBA) intends to request approval from the Office of Management and Budget (OMB) for a new information collection described below. The PRA requires Federal agencies to publish a notice in the Federal Register concerning each proposed collection of information before submission to OMB, and to allow 60 days for public comment in response to the notice. This notice complies with that requirement.

DATES: Submit comments on or before October 28, 2024.

ADDRESSES: Send all comments to Donna Fudge, donna.fudge@sba.gov, (202) 205-6363, Office of Policy Planning and Liaison, Small Business Administration.

FOR FURTHER INFORMATION CONTACT: Donna Fudge, donna.fudge@sba.gov, (202) 205-6363, Office of Policy Planning and Liaison, Small Business Administration or Alethea Ten Eyck-Sanders, Agency Clearance Officer alethea.teneyck-sanders@sba.gov, 202-996-4329.

SUPPLEMENTARY INFORMATION: SBA requires this information from small business concerns to determine an applicants' eligibility for recertification in the 8(a) Business Development, Veteran-Owned and Service-Disabled Veteran-Owned Small Business (VOSB/SDVOSB), Historically Underutilized Business Zone (HUBZone), and Women-Owned Small Business (WOSB) programs.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: To Be Determined.

Title: Business Development and Unified Certification Renewal.

Description of Respondents: The SBA is required by statute to administer the 8(a), HUBZone, WOSB, and VOSB/SDVOSB programs. To do this, SBA must recertify applicants eligibility to ensure continuing compliance with program eligibility requirements. The Business Development and Unified Certification Renewal information collection is used in execution of these requirements.

Form Number: SBA Form 2539.

Total Estimated Annual Responses: 14,400.

Total Estimated Annual Hour Burden: 7,767.

Alethea Ten Eyck-Sanders,
Agency Clearance Officer.

[FR Doc. 2024-19446 Filed 8-28-24; 8:45 am]

BILLING CODE 8026-09-P